DEPARTMENT OF THE INTERIOR

Bureau of Land Management

[LLNVS01000 L5105.0000.EA0000 LVRCF1806490 18X MO# 4500129489]

Notice of Temporary Closure of Public Land in Clark County, Nevada

AGENCY: Bureau of Land Management, Interior.

ACTION: Temporary closure on public lands in Nevada.

SUMMARY: The Las Vegas Field Office announces the temporary closure of certain public lands under its administration. The Off-Highway Vehicle (OHV) race area in Laughlin is used by OHV recreationists, and the temporary closure is needed to limit their access to the race area and to minimize the risk of potential collisions with spectators and racers during the 2018 Rage at the River Off-Highway Vehicle Races.

DATES: The temporary closure for the 2018 Rage at the River will go into effect at 12:01 a.m. on December 8, 2018 and will remain in effect until 11:59 p.m. on December 9, 2018.

ADDRESSES: The temporary closure order, communications plan, and map of the temporary closure area will be posted at the BLM Las Vegas Field Office, 4701 North Torrey Pines Drive, Las Vegas, Nevada 89130 and on the BLM website: www.blm.gov. These materials will also be posted at the access point of the Laughlin race area and the surrounding areas.

FOR FURTHER INFORMATION CONTACT: Kenny Kendrick, Outdoor Recreation Planner, (702) 515-5073. Kkendrick@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Las Vegas Field Office announces the temporary closure of certain public lands under its administration. This action is being taken to help ensure public safety during the official permitted running of the 2018 Rage at the River.

The public lands affected by this closure are described as follows:

Mount Diablo Meridian, Nevada

T. 32 S., R. 66 E.,

sec. 8, NW¼NE¼, S½NE¼, NW¼, SW¼, and SE¼;

sec. 9;

sec. 10, S½NE¼, S½NW¼, SW¼, and SE¼;

sec. 11, S½NE¼, S½NW¼, SW¼, and SE¼;

sec. 14;

sec. 15, E½;

sec. 16, NE¼, W½, and N½SE¼;

sec. 17, E½NE¼, N½NW¼NE¼, SE¼NW¼NE¼, NE¼SW¼NE¼, S½SW¼NE¼, W½NE¼NW¼, W½NW¼, SE¼NW¼, S½.

The areas described aggregate 5,120 acres, according to the official plats of the surveys of the said lands, on fie with the BLM.

Roads leading into the public lands under the temporary closure will be posted to notify the public of the closure. The closure area includes State Route 163 to the north, T.32S., R.66E sections 8 and 17 to the west, Private and state land in T.32S., R.66E sections 20,21,22 and 23 and is bracketed by Bruce Woodbury Dr. to the south and southwest, and Thomas Edison Dr. to the east. Under the authority of Section 303(a) of the Federal Land Policy and Management Act of 1976 (43 U.S.C. 733(a)), 43 CFR 8360.0-7 and 43 CFR 8364.1, the BLM will enforce the following rules in the area described above: The entire area as listed in the legal description above is closed to all vehicles and personnel except Law Enforcement, Emergency Vehicles, event personnel, event participants and spectators. Access routes leading to the closed area are closed to vehicles. No vehicle stopping or parking in the closed area except for designated parking areas will be permitted. Event participants and spectators are required to remain within designated areas only.

The following restrictions will be in effect for the duration of the closure to ensure public safety of participants and spectators. Unless otherwise authorized, the following activities within the closure area are prohibited:

• Camping.

• Possession and/or consuming any alcoholic beverage unless the person has reached the age of 21 years.

• Discharging or use of firearms, other weapons.

• Possession and/or discharging of fireworks.

• Allowing any pet or other animal in their care to be unrestrained at any time. Animals must be on a leash or other restraint no longer than 3 feet.

• Operation of any vehicle including All Terrain Vehicles (ATV), motorcycles, Utility Terrain Vehicles (UTV), golf carts, and any off-highway vehicle (OHV), which is not legally registered for street and highway operation, including operation of such a vehicle in spectator viewing areas.

• Parking any vehicle in violation of posted restrictions, or in such a manner as to obstruct or impede normal or emergency traffic movement or the parking of other vehicles, create a safety hazard, or endanger any person, property, or feature. Vehicles so parked are subject to citation, removal, and impoundment at the owner's expense.

• Operating a vehicle through, around or beyond a restrictive sign, recognizable barricade, fence, or traffic control barrier or device.

• Failing to maintain control of a vehicle to avoid danger to persons, property, or wildlife.

• Operating a motor vehicle without due care or at a speed greater than 25 mph. Signs and maps directing the public to designated spectator areas will be provided by the event sponsor.

Exceptions: Temporary closure restrictions do not apply to activities conducted under contract with the BLM, agency personnel monitoring the event, or activities conducted under an approved plan of operation. Authorized users must have, in their possession, a written permit or contract from BLM signed by the authorized officer.

Enforcement: Any person who violates this temporary closure may be tried before a United States Magistrate and fined in accordance with 18 U.S.C. 3571, imprisoned no more than 12 months under 43 U.S.C. 1733(a) and 43 CFR 8360.0-7, or both. In accordance with 43 CFR 8365.1-7, State or local officials may also impose penalties for violations of Nevada law.

(Authority: 43 CFR 8360.0-7 and 8364.1)

Gayle Marrs-Smith,
Field Manager—Las Vegas Field Office.

[FR Doc. 2018-24018 Filed 11-1-18; 8:45 am]

BILLING CODE 4310-HC-P